DEPARTMENT OF THE INTERIOR

National Park Service

General Management Plan; City of Rocks National Reserve, Cassia County, ID; Notice of Intent to Prepare an Environmental Impact Statement

SUMMARY: In accordance with § 102(2) (C) of the National Environmental Policy Act of 1969 (42 U.S.C. 4321, et seq.), the National Park Service (NPS) is undertaking a conservation planning and environmental impact analysis process for creating a new General Management Plan (GMP) for City of Rocks National Reserve (Reserve), Idaho. A Land Protection Plan would accompany the GMP and provide priorities for both cultural and natural resource protection needs. The Land Protection Plan is particularly needed to guide future land acquisition strategies for this unit of the National Park System due to the complex ownership of private, state, and federal land. The GMP is intended to serve as a “blueprint” to guide management of natural and cultural resources and visitor use during the next 15-20 years. One or more development concept plans, which guide more detailed, site-specific preservation and development, may also be included with the GMP. Consistent with NPS Planning Program Standards, the new GMP will: (1) Describe the Reserve's purpose, significance, and primary interpretive themes; (2) identify the fundamental resources and values of the Reserve, its other important resources and values, and describe the condition of these resources; (3) describe desired conditions for cultural and natural resources and visitor experiences throughout the Reserve; (4) develop management zoning to support these desired conditions; (5) develop alternative applications of these management zones to the Reserve's landscape (i.e. zoning alternatives); (6) address user capacity; (7) analyze potential boundary modifications; (8) ensure that management recommendations are developed in consultation with interested stakeholders and the public and adopted by NPS leadership after an adequate analysis of the benefits, environmental impacts, and economic costs of alternative courses of action; (9) develop cost estimates implementing each of the alternatives; and (10) identify and prioritize subsequent detailed studies, plans and actions that may be needed to implement the updated GMP.

Scoping Process: The purpose of this scoping outreach effort is to elicit early public feedback regarding issues and concerns, nature and extent of potential environmental impacts (and appropriate mitigations), and GMP alternatives which should be addressed in the preparing the EIS. Through the outreach activities planned during the scoping phase, the NPS will compile suggestions from the public regarding resource protection, visitor use, and land management—questions to be posed will include: (1) What is most valued about City of Rocks National Reserve? (2) What are the important issues facing the Reserve? (3) Imagining a visit to City of Rocks National Reserve 20 years from now, describe what you would like to experience. (4) Do the purpose and significance statements capture the essence of City of Rocks National Reserve?

All scoping comments must be postmarked or transmitted not later that November 15, 2009. Comments may be transmitted electronically through the NPS Planning, Environment, and Public Comment Web site http://parkplanning.nps.gov/ciro. If it is more convenient, written comments may be sent to: General Management Plan, Attn: Wallace Keck, Superintendent, City of Rocks National Monument, P.O. Box 169, Almo, Idaho 83312. Before including your address, phone number, e-mail address, or other personal identifying information in your comment, you should be aware that your entire comment—including your personal identifying information—may be made publicly available at any time. While you can ask us in your comment to withhold your personal identifying information from public review, we cannot guarantee that we will be able to do so.

Beginning in mid-September, a series of public meetings will be hosted in Almo, Burley, Pocatello, Boise, and Ketchem, Idaho. Detailed information including dates, times, and specific locations for these meetings will be posted on the GMP Web site at http://www.nps.gov/ciro/parkmgmt/plan.htm. All attendees will be given the opportunity to ask questions and provide comments to the planning team. The GMP Web site will provide the most up-to-date information regarding the project, including project description, planning process updates, meeting notices, reports and documents, and useful links associated with the project.

SUPPLEMENTARY INFORMATION: The Reserve was established in 1988 and is operating with an outdated 1994 comprehensive management plan (CMP). Production of a new GMP to replace the CMP is required by Cooperative Agreement between the National Park Service and Idaho Parks and Recreation Department, as well as a joint 2009 Operation Plan and Guidelines for Management of the Reserve. Major changes have occurred in NPS management, policy, land ownership, and practices that directly affect the Reserve. The preliminary spectrum of issues to be addressed in the GMP are as follows:

Cultural Resource Protection and Preservation: The Reserve was established “to preserve and protect the significant historical and cultural resources” related to the California Trail which passed through the City of Rocks between 1843-1882. These resources include emigrant inscriptions, trail ruts, and landscape characteristics that contributed to prominence of City of Rocks along the trail. The Reserve also manages other cultural resources related to Native Americans in the area before the California Trail era, and homesteading and ranching which post-date the California Trail. These resources include archeological sites, remnants of homesteads, as well as archival and museum objects. The GMP will explore various preservation treatment options, management strategies, and design guidelines for the protection of a wide variety of cultural resources. Some cultural sites, such as Boise-Kelton Stage Station, are located on private land within the Reserve and contain important historic remnants of the California Trail or homesteading period. Managing cultural resources on both private and public land presents challenges, such as protection from vandalism, weathering, and impacts from visitor use and livestock grazing.

Natural Resource Protection: The Reserve is home to a diversity of plant and animal life, as well as the dramatic granite rock formations. Invasive species, visitor activities, and grazing can impact these resources. The GMP will explore management needed for natural resource protection. In addition, the GMP will re-evaluate management of the City of Rocks Research Natural Area (RNA), status which was inherited from the BLM and USFS when the Reserve was established. This 312-acre area within the Reserve was designated for its outstanding natural features, natural processes, natural diversity, and ecological values. It contains unique geologic formations and the northern limit of the pinyon-juniper forest type in North America. As part of the GMP process, current status of RNA resources will be reviewed, and a determination will be made as to which recreational uses, if any, might be appropriate within the RNA, whether the RNA designation should remain, and whether other areas of the Reserve with biological diversity should be considered for such designation.

Soundscape/Natural Quiet: Natural sounds are a fundamental resource of the Reserve, once referred to as the “Silent City of Rocks”. Military and commercial overflights, especially at night, have an impact on both visitor experience and wildlife. Reserve operations and visitor activities can also contribute to the deterioration of the natural soundscape. Baseline acoustical monitoring has recently been conducted to measure and record the sounds of the Reserve. The GMP will present recommendations to maintain natural sounds and natural quiet.

Air Quality and Night Skies: Air quality in and around southern Idaho is some of the most pristine in the nation, but it has shown steady deterioration over the last ten years. Pristine airsheds are a fundamental resource of the Reserve and visitor surveys indicate that air quality and scenic vistas are among the most highly valued characteristics of the Reserve. Southern Idaho is also one of the best places in the U.S. for viewing night skies. The GMP will evaluate ways to protect viewsheds, particularly vistas associated with the California National Historic Trail that bisects the Reserve, and to protect the night sky in and around the Reserve.

Climate Change: The potential effects of global climate change may include changes in temperature, precipitation, evaporation and snowpack rate, local weather patterns, wildfire frequency, and plant communities. Planning and management actions will allow the Reserve to minimize its greenhouse gas emissions, adapt to climate change, and interpret changing conditions. The GMP will provide guidance on how the Reserve will assess, respond to, and interpret the impacts of global climate change on resources.

Operations/Facilities: The Reserve has an on-going need for staffing, funding, and facilities. The visitor center proposed in the 1994 CMP has yet to be constructed on leased BLM land near the Almo entrance into the Reserve—an opportunity exists to develop an interagency visitor center that would meet needs of the Reserve, the adjacent Castle Rocks State Park, and neighboring land managing agencies. Also, there are insufficient employee housing options on either Reserve administered land or in the local community. The GMP will guide planning for these facilities.

Visitor Experience: Visitors come to the Reserve to enjoy the scenery, and to climb, hike, and recreate in other ways. Visitation to the Reserve is increasing, and the demographics of visitors are trending to younger adult visitors (25-35 years) and smaller group sizes. As the visiting population shifts, their interests and preferred activities may also change. The GMP will use current visitor survey data to comprehensively address available visitor facilities, activities, and programs. Day use and camping will be evaluated taking into consideration camping opportunities on adjacent public and private lands. A comprehensive look at the trail system with associated parking, picnicking, and trailheads will be completed as part of the GMP. The GMP will also provide guidance on other recreational uses, such as hunting and equestrian use, including locating staging areas and any related facilities.

Evaluation of Boundaries: The National Parks and Recreation Act of 1978, as amended, requires that GMPs consider adequacy of existing boundaries. When the Reserve was established, it was assumed that the private lands and associated ranching within the boundary would remain part of the Reserve. Since then, many of the landowners have opted to sell their land to the NPS. Planning for these acquired lands will be addressed in the GMP. The GMP will also determine if any changes to the boundary are appropriate based on resource protection, visitor use, and land management needs. National Historic Landmark and National Natural Landmark boundaries that overlay the Reserve are configured differently from each other and neither covers the entire Reserve. Also, the Cassia County Historic Preservation Zone does not cover the entire Reserve, and therefore may not fully protect the cultural and natural resources and presents some management challenges. The GMP will consider recommendations for these boundaries so that they might be consistent with the extent of the Reserve boundary.

Transportation/Circulation: Access and transportation within and through the Reserve includes motorized use and people on foot, horses, and bicycles. Parking is available in both day use and overnight camping areas, but overflow parking often takes place on roadsides, creating safety concerns and causing erosion. Staging areas for equestrian use have similar issues. Some visitors merely pass through the Reserve on scenic drives along the City of Rocks road. City of Rocks Backcountry Byway is an unpaved road that runs through the Reserve; this route also has erosion issues, due to seasonal weather conditions and alignment on disintegrating granite soils. The road is currently managed by Cassia County, which poses some challenges for Reserve staff when maintenance is needed. The GMP will recommend appropriate road maintenance standards, including identifying appropriate practices for drainage and erosion control along the Byway. The GMP will also examine an array of potential management options for the City of Rocks Backcountry Byway, and consider all forms of motorized and non-motorized transportation and evaluate circulation patterns, parking, and other transportation options.

Decision Process: Upon conclusion of the scoping phase and following due consideration of public concerns and comments from other agencies, a Draft EIS\GMP will be prepared and released for public review. Availability of the forthcoming Draft EIS for public review and written comment will be formally announced in the Federal Register, as well as through local and regional news media, direct mailing to the project mailing list, and via the Internet. Following careful consideration of all agency and public comment as may be received, a Final EIS will be prepared; at this time it is anticipated that the final plan will be available in 2013. As a delegated EIS, the official responsible for the final decision on the proposed plan is the Regional Director, Pacific West Region, National Park Service. Subsequently, the official responsible for implementation of the approved GMP would be the Superintendent, City of Rocks National Reserve.

Dated: July 13, 2009.
Patricia L. Neubacher,
Acting Regional Director, Pacific West Region.

[FR Doc. E9-20438 Filed 8-24-09; 8:45 am]

BILLING CODE 4312-DB-P